DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Operator Response to Schedule for Submission of Additional Evidence (CM-2970) and Operator Response to Notice of Claim (CM-2970A). A copy of the proposed information collection request can be obtained by contacting the office listed below in the addresses section of this Notice.

DATES: Written comments must be submitted to the office listed in the addresses section below on or before July 16, 2007.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or e-mail).

SUPPLEMENTARY INFORMATION:

I. Background

The Division of Coal Mine Workers' Compensation administers the Black Lung Benefits Act (30 U.S.C. 901 et seq.) which provides benefits to coal miners totally disabled due to pneumoniosis, and their surviving dependents. When the Division of Coal Mine Workers' Compensation (DCMWC) makes a preliminary analysis of a claimant's eligibility for benefits, and if a coal mine operator has been identified as potentially liable for payment of those benefits, the responsible operator is notified of the preliminary analysis. Regulations require that a coal mine operator be identified and notified of potential liability as early in the adjudication process as possible. Forms CM-970 and CM-970a are now obsolete and renewal will not be requested in the extension request for information collection 1215-0058. The CM-970 and CM-970a will be replaced by CM-2970 and CM-2970a. Regulatory authority is found in 20 CFR 725.410 for the CM-2970 and 20 CFR 725.408 for the CM-2970A. This information collection is currently approved for use through October 31, 2007.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions

The Department of Labor seeks the extension of approval to collect this information in order to carry out its responsibility to administer the Black Lung Benefits Act.

Type of Review: Revision.

Agency: Employment Standards Administration.

Title: Operator Response to Schedule for Submission of Additional Evidence (CM-2970), Operator Response to Notice of Claim (CM-2970A).

OMB Number: 1215-0058.

Agency Number: CM-2970 and CM-2970A.

Affected Public: Business or other for-profit.

Respondents: 8,000.

Total Annual responses: 8,000.

Frequency: On occasion.

Form | Number of respondents | Average time per response (minutes) | Burden hours
CM-2970 | 4,000 | 10 | 667
CM-2970A | 4,000 | 15 | 1,000
Total | 8,000 |  | 1,667

Estimated Total Burden Hours: 1,667.

Total Burden Cost (capital/startup): $0.

Total Burden Cost (operating/maintenance): $3,360.00.

Comments submitted in response to this notice will be summarized and/or included in the request for Office of Management and Budget approval of the information collection request; they will also become a matter of public record.

Dated: May 10, 2007.
Hazel Bell,
Acting Chief, Branch of Management Review and Internal Control, Division of Financial Management, Office of Management, Administration and Planning, Employment Standards Administration.

[FR Doc. E7-9291 Filed 5-14-07; 8:45 am]

BILLING CODE 4510-CK-P